DEPARTMENT OF HEALTH AND HUMAN SERVICES

Substance Abuse and Mental Health Services Administration

Agency Information Collection Activities Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Proposed Project: Drug and Alcohol Warning Network (DAWN) (OMB No. 0930-0078)—Reinstatement With Change

Under the Public Health Service Act (42 U.S.C. 290aa-4), SAMHSA is authorized to collect data on the number of individuals admitted to the emergency rooms of hospitals as a result of the abuse of alcohol or other drugs. DAWN is a nationwide public health surveillance system to improve hospital emergency department (ED) monitoring of substance use-related visits. It captures data on ED visits related to recent substance use and misuse directly from the electronic health records (EHR) of participating hospitals. The new DAWN helps SAMHSA and public health professionals, clinicians, and policymakers respond effectively to the opioid and substance misuse crisis in the United States.

SAMHSA is requesting OMB approval of reinstatement with change of the DAWN data collections, to include following changes:

• Revise the data collection title to “Drug and Alcohol Warning Network”, replacing existing `abuse' term and including “alcohol” in the title.

• Remove drug-related death investigation records review component administered by state medical examiners (MEs) and individual medical examiners/coroners (ME/Cs).

• Revise data collection procedures where participating hospitals can choose the direct chart review option (at the contractor's operation center, home-based abstraction or on site at the hospital). Hospitals will also have the opportunity to select the machine learning with natural language processing (ML with NLP) option. The option for hospitals to use their own staff to abstract DAWN data as they did in the legacy DAWN is no longer offered.

• Revise the hospital selection design of the ED component to a hybrid system that combines sentinel hospitals and probability-based selection of hospitals from high priority suburban/rural areas and from the remaining areas in the United States.

• Change the reporting and publication schedule to further increase the timeliness of the new DAWN data availability and delivery to SAMHSA. The new DAWN data are collected on an ongoing basis and could be available to SAMHSA on demand. The new DAWN data are delivered to SAMHSA and available for analysis at a more frequent intervals than the legacy DAWN.

• Propose following changes to the ED Case Report Form:

○ Add “Center for Behavioral Health Statistics and Quality” to specify the center responsible for DAWN data collection.

○ Revise the data collection title to “Drug and Alcohol Warning Network” from “Drug Abuse Warning Network.”

○ Replace prior “Facility” data field title with “Hospital Emergency Department ID” to provide more precise description and ID number of the DAWN participating hospitals.

○ Q3 “Age”: replace prior option of “less than 1 year” with two detailed options of “4 weeks (28 days) or younger” and “Between 4 weeks and one year old (>4 weeks, <1 year)” to enable new identification of neonatal substance issues.

○ Q4 “County of Residence”: revise data field title from prior “patient's home zip code” and add more accurate description on what data to be collected and clarify the purpose of data collection. Add new “Unable to determine county” option to improve data accuracy and account for geographical variation.

○ Q6 “Gender Identity” and Q7 “Sexual Orientation”: added to provide inclusive measures and to align with SAMHSA's efforts in enhancing behavioral health equities among diverse populations.

○ Q8 “Ethnicity” and Q9 “Race”: revise prior data field “Race/Ethnicity” to align with OMB 1997 Standards for Maintaining, Collecting, And Presenting Federal Data on Race and Ethnicity (Statistical Policy Directive No. 15) and to improve data accuracy and comprehensiveness.

○ Q10 “Case Description”: replace the word “drug(s)” with “substance(s)” to clarify that the DAWN collects data on all substances including alcohol. Add new instruction language of “Do not include information that could identify the patient or hospital” to provide clear instruction and specify the importance of patient and hospital privacy protection.

○ Q11 “Substance(s) Involved and Route of Administration”: add two new options of “transdermal” and “vaped” to improve the comprehensiveness of the list on how substance is administered by the patient. Remove “Mark if confirmed by toxicology test” and “alcohol involved?”

○ Q12 “Diagnosis”: change the question order and move the data field after Q11. Revise prior instruction of “list up to 4 diagnoses” to “list all diagnoses” to enhances new DAWN's ability to identify novel drug, drug trends, and drug outbreaks.

○ Q13 “Type of Case”: remove instruction language of “using the decision tree.” Revise the existing option of “seeking detox” to “seeking detox and/or substance abuse treatment only” and remove age restriction for “Alcohol only” option to include cases involving alcohol as the only substance of all ages.

○ Q14, Q15, and Q16 “Was naloxone/buprenorphine/methadone administered to the patient in the ED”: added to capture new data on the implementation of medication-assisted treatment for opioid use disorder in the emergency department setting and understand why buprenorphine and methadone is administered.

○ Q17 “Disposition”: add new options and re-categorize disposition to improve data accuracy and comprehensiveness and better understand where the patient went after their ED visit.

• Proposes a new Activity Report From to be submitted by the abstractors to collect information on the date of ED visits the abstractor has reviewed, counts of ED visits for that date, number of records reviewed, and number of left without being seen (LWBS) visits for the ED visit date if participating hospitals choose the direct chart review option.

The estimated annual burden for the DAWN data collection is as follows:

Information collection activities | Number of respondents | Responses per respondent | Total responses | Hours per response (in hours) | Total burden hours | Average hourly wage | Total annual cost
Setting Up Activities *
Initial outreach and recruitment (all hospitals) | 143 | 1 | 143 | 81.50 | 11,655 | $48.72 | $567,807
ED record provision setting up (direct chart review) | 58 | 1 | 58 | 5.25 | 305 | 26.71 | 8,133
ED record provision setting up (ML with NLP) | 85 | 1 | 85 | 36.00 | 3,060 | 26.71 | 81,733
Ongoing Maintenance Activities
Ongoing Maintenance (direct chart review) | 58 | 1 | 58 | 1.50 | 87 | 26.71 | 2,324
Ongoing Maintenance (ML with NLP) | 85 | 1 | 85 | 6.00 | 510 | 26.71 | 13,622
Totals |  |  |  |  | 15,616 |  | 673,619
* Setting up activities will be conducted once.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2024-17142 Filed 8-2-24; 8:45 am]

BILLING CODE 4162-20-P